DEPARTMENT OF ENERGY

Federal Energy Regulatory Commission

[Project No. 1994-008]

Heber Light & Power Company; Notice of Intent To File License Application, Filing of Pre-Application Document, and Approving Use of the Traditional Licensing Process

a. Type of Filing: Notice of Intent to File License Application and Request to Use the Traditional Licensing Process (TLP).

b. Project No.: 1994-008.

c. Dated Filed: April 30, 2024.

d. Submitted By: Heber Light & Power Company (Heber L&P).

e. Name of Project: Snake Creek Hydroelectric Project.

f. Location: On Snake Creek about 2 miles northwest of Midway City, in Wasatch County, Utah. The project occupies 8.15 acres of Forest Service land administered by the Uinta-Wasatch-Cache National Forest.

g. Filed Pursuant to: 18 CFR 5.3 of the Commission's regulations.

h. Applicant Contact: Jason Norlen, General Manager, Heber Light & Power Company, 31 S 100 W, Heber City, Utah 84032; (435) 654-2913; email: jnorlen@heberpower.com.

i. FERC Contact: Khatoon Melick at (202) 502-8433 or email at khatoon.melick@ferc.gov.

j. Heber L&P filed its request to use the TLP on April 30, 2024, and provided public notice of its request on May 22, 2024. In a letter dated June 27, 2024, the Acting Director of the Division of Hydropower Licensing approved Heber L&P's request to use the Traditional Licensing Process.

k. With this notice, we are initiating informal consultation with the U.S. Fish and Wildlife Service under section 7 of the Endangered Species Act and the joint agency regulations thereunder at 50 CFR part 402; and NOAA Fisheries under section 305(b) of the Magnuson-Stevens Fishery Conservation and Management Act and implementing regulations at 50 CFR 600.920. We are also initiating consultation with the Utah State Historic Preservation Officer, as required by section 106, National Historic Preservation Act, and the implementing regulations of the Advisory Council on Historic Preservation at 36 CFR 800.2.

l. Heber L&P filed a Pre-Application Document (PAD; including a proposed process plan and schedule) with the Commission, pursuant to 18 CFR 5.6 of the Commission's regulations.

m. A copy of the PAD may be viewed on the Commission's website (http://www.ferc.gov), using the “eLibrary” link. Enter the docket number, excluding the last three digits in the docket number field to access the document. For assistance, contact FERC Online Support at FERCOnlineSupport@ferc.gov, (866) 208-3676 (toll free), or (202) 502-8659 (TTY).

You may register online at https://ferconline.ferc.gov/FERCOnline.aspx to be notified via email of new filings and issuances related to this or other pending projects. For assistance, contact FERC Online Support.

n. The applicant states its unequivocal intent to submit an application for a subsequent license for Project No. 1994. Pursuant to 18 CFR 16.20 each application for a subsequent license and any competing license applications must be filed with the Commission at least 24 months prior to the expiration of the existing license. All applications for license for this project must be filed by April 30, 2027.

o. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 27, 2024.
Debbie-Anne A. Reese,
Acting Secretary.

[FR Doc. 2024-14670 Filed 7-2-24; 8:45 am]

BILLING CODE 6717-01-P